CONSUMER PRODUCT SAFETY COMMISSION

16 CFR Chapter II

[Docket No. CPSC-2013-0028]

Petition for Rulemaking To Eliminate Accessible Cords on Window Covering Products

AGENCY: Consumer Product Safety Commission.

ACTION: Notice of petition for rulemaking.

SUMMARY: The Consumer Product Safety Commission (CPSC or Commission) received a petition requesting the Commission to: promulgate a mandatory standard that prohibits any window covering cords, when a feasible cordless alternative exists; and require that all window covering cords be made inaccessible through the use of a passive guardian device when a feasible cordless alternative does not exist. The Commission invites written comments concerning the petition.

DATES: The Office of the Secretary must receive comments on the petition by September 13, 2013.

ADDRESSES: You may submit comments, identified by Docket No. CPSC-2013-0028, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions in the following way: Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2013-0028, into the “Search” box, and follow the prompts. A copy of the petition is available at http://www.regulations.gov under Docket No. CPSC-2013-0028, Supporting and Related Materials.

FOR FURTHER INFORMATION CONTACT: Rockelle Hammond, Office of the Secretary, U.S. Consumer Product Safety Commission, Room 820, 4330 East West Highway, Bethesda, MD 20814; telephone (301) 504-6833.

SUPPLEMENTARY INFORMATION: The Consumer Product Safety Commission (CPSC or Commission) received a petition requesting initiation of a rulemaking to promulgate a mandatory standard to eliminate accessible cords on window covering products. The petition was filed by nine organizations representing consumer groups, safety consultants, and legal counsel: Parents for Window Blind Safety; Consumer Federation of America; Consumers Union; Kids in Danger; Public Citizen; U.S. PIRG; Independent Safety Consulting; Safety Behavior Analysis, Inc.; and Onder, Shelton, O'Leary & Peterson (collectively petitioners). CPSC has docketed the petition (CP13-2).

The petition asserts that a mandatory rule is necessary because attempts to develop a voluntary standard that adequately mitigates the risk of injury associated with window covering cords have failed. Petitioners state that, based on CPSC's data, between 1985 and 2012, 324 children have been killed, and 122 have been injured by window covering cords.

To support their request for rulemaking, petitioners detail the history of the voluntary standards process for window coverings since 1985. Petitioners argue that although the first voluntary standard, ANSI/WCMA A100.1-1996, issued in 1996, addressed some hazards associated with outer cord loops, the manner in which this hazard was addressed did not fully resolve the strangulation and asphyxiation risk. The voluntary standard was subsequently updated in 2002, 2007, 2009, and 2010, following CPSC recalls for unaddressed hazards related to rear inner cord fatalities on roman shades and lifting loops on roll-up shades. Petitioners argue that these efforts also had limited success, detailing additional fatalities and injuries. Petitioners assert that the most recent version of the ANSI standard, approved on November 28, 2012, still fails to adequately address the strangulation hazard posed by accessible cords on window coverings, despite increased international governmental and retailer pressure to address the hazard.

Petitioners assert that the voluntary standard is inadequate. They analyzed the incidents associated with window covering cords between 1996 and 2012 to determine what characteristic of the cord was involved in each incident. Of the 293 incidents that occurred during that period, enough data to determine the cord characteristic involved was available in 250 of the incidents. Petitioners conclude that 102 of these 250 incidents, or 40%, would not have been prevented by adherence to the current 2012 voluntary standard. Petitioners also detail characteristics of newer window covering designs that meet the voluntary standard but that Petitioners argue are more dangerous than traditional corded blinds.

Petitioners assert that substantial noncompliance with the voluntary standard is demonstrated by CPSC's 16 recalls involving blinds that purportedly complied with the voluntary standard since 2007. Petitioners state that CPSC found numerous other violations of the voluntary standard when evaluating roman shades and roll-up shades, including looped pull cords, no inner cord stops, no tension devices, and failure to attach tension devices to a continuous loop cord. Petitioners assert that many of these products had been on the market for years before the defects were detected and recalled.

Petitioners ask the Commission to issue a mandatory standard to eliminate the hazard posed by accessible cords in window coverings. The petition specifically requests that the Commission: (1) Promulgate a mandatory standard that prohibits any window covering cords when a feasible cordless alternative exists; and (2) require that all cords be made inaccessible through the use of a passive guardian device when a feasible cordless alternative does not exist.

By this notice, the Commission seeks comments concerning this petition. Interested parties may obtain a copy of the petition by writing or calling the Office of the Secretary, U.S. Consumer Product Safety Commission, Room 820, 4330 East West Highway, Bethesda, MD 20814; telephone (301) 504-7923. A copy of the petition also will be made available for viewing under “Supporting and Related Materials” in www.regulations.gov under this docket number.

Dated: July 3, 2013.
Todd A. Stevenson,
Secretary, U.S. Consumer Product Safety Commission.

[FR Doc. 2013-16403 Filed 7-12-13; 8:45 am]

BILLING CODE 6355-01-P